DEPARTMENT OF COMMERCE

International Trade Administration

[A-570-166, A-533-926, A-580-919, A-583-876, A-549-850]

Certain Epoxy Resins From the People's Republic of China, India, the Republic of Korea, Taiwan, and Thailand: Postponement of Preliminary Determinations in the Less-Than-Fair-Value Investigations

AGENCY: Enforcement and Compliance, International Trade Administration, Department of Commerce.

DATES: Applicable August 12, 2024.

FOR FURTHER INFORMATION CONTACT: Mark Flessner (the People's Republic of China (China)) at (202) 482-6312; Sean Grossnickle (India) at (202) 482-3818; Laura Delgado (the Republic of Korea (Korea)) at (202) 482-1468; Benito Ballesteros (Taiwan) at (202) 482-7425; and Rachel Jennings (Thailand) at (202) 482-1110, AD/CVD Operations, Enforcement and Compliance, International Trade Administration, U.S. Department of Commerce, 1401 Constitution Avenue NW, Washington, DC 20230.

SUPPLEMENTARY INFORMATION:

Background

On April 23, 2024, the U.S. Department of Commerce (Commerce) initiated less-than-fair-value (LTFV) investigations of imports of certain epoxy resins (epoxy resins) from China, India, Korea, Taiwan, and Thailand.¹ On July 22, 2024, Commerce tolled certain deadlines in these administrative proceedings by seven days.² The deadline for the preliminary determinations is now September 17, 2024, which is the original September 10, 2024, deadline tolled by seven days.

¹ See Certain Epoxy Resins from the People's Republic of China, India, the Republic of Korea, Taiwan, and Thailand: Initiation of Less-Than-Fair-Value Investigations, 89 FR 33324 (April 29, 2024) (Initiation Notice).

² See Memorandum, “Tolling of Deadlines for Antidumping and Countervailing Duty Proceedings,” dated July 22, 2024.

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 29, 2024, the petitioner ³ submitted a timely request that Commerce postpone the preliminary determinations in the LTFV investigations of imports of epoxy resins from China, India, Korea, Taiwan, and Thailand. The petitioner stated that “{p}ostponement is warranted so that Commerce can evaluate fully the initial questionnaire responses submitted by the mandatory respondents and solicit supplemental information as necessary,” and that the petitioner “seeks postponement of all the antidumping investigations in order to keep them on the same schedule and avoid the need to split the cases at the International Trade Commission.” ⁴

³ The petitioner is the U.S. Epoxy Resin Producers Ad Hoc Coalition, comprising Olin Corporation and Westlake Corporation.

⁴ See Petitioner's Letter, “Petitioner's Request for Postponement of the Preliminary Determinations,” dated July 29, 2024.

For the reasons stated above, and because there are no compelling reasons to deny the request, in accordance with section 733(c)(1)(A) of the Act and 19 CFR 351.205(e), Commerce is postponing the deadline for the preliminary determinations by 50 days. As a result, Commerce will issue its preliminary determinations in the above-referenced investigations no later than November 6, 2024. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: August 6, 2024.
Scot Fullerton,
Acting Deputy Assistant Secretary for Antidumping and Countervailing Duty Operations.

[FR Doc. 2024-17857 Filed 8-9-24; 8:45 am]

BILLING CODE 3510-DS-P